DEPARTMENT OF TRANSPORTATION

Federal Aviation Administration

14 CFR Part 39

[Docket No. FAA-2011-0564; Directorate Identifier 2011-NM-021-AD]

RIN 2120-AA64

Airworthiness Directives; Bombardier, Inc. Model CL-600-2B19 (Regional Jet Series 100 & 440); Model CL-600-2C10 (Regional Jet Series 700, 701, & 702); Model CL-600-2D15 (Regional Jet Series 705); and Model CL-600-2D24 (Regional Jet Series 900) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

There have been several in-service reports of airspeed mismatch between the pilot and co-pilot's airspeed indicators. It was discovered that during or after heavy rain, the pitot-static tubing may become partially or completely blocked by water, which fails to enter the drain bottles. Investigation revealed that drain bottles used in the primary pitot-static system include check valves, which impede the entry of water into the drain bottle. This condition, if not corrected, may result in erroneous airspeed and altitude indications.

* * * * *

The proposed AD would require actions that are intended to address the unsafe condition described in the MCAI.

DATES: We must receive comments on this proposed AD by July 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; phone: 514-855-5000; fax: 514-855-7401; e-mail: thd.crj@aero.bombardier.com; Internet: http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe & Mechanical Systems Branch, ANE-171, New York Aircraft Certification Office (ACO), FAA, 1600 Stewart Avenue, Suite 410, Westbury, New York 11590; telephone: 516-228-7340; fax: 516-794-5531.

SUPPLEMENTARY INFORMATION:

Comments Invited

We invite you to send any written relevant data, views, or arguments about this proposed AD. Send your comments to an address listed under the ADDRESSES section. Include “Docket No. FAA-2011-0564; Directorate Identifier 2011-NM-021-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the airworthiness authority for Canada, has issued Canadian Airworthiness Directive CF-2010-37, dated October 28, 2010 (referred to after this as “the MCAI”), to correct an unsafe condition for the specified products. The MCAI states:

There have been several in-service reports of airspeed mismatch between the pilot and co-pilot's airspeed indicators. It was discovered that during or after heavy rain, the pitot-static tubing may become partially or completely blocked by water, which fails to enter the drain bottles. Investigation revealed that drain bottles used in the primary pitot-static system include check valves, which impede the entry of water into the drain bottle. This condition, if not corrected, may result in erroneous airspeed and altitude indications.

This directive mandates replacement of the [certain] Water Accumulator Assemblies [with new water accumulator assemblies] to improve drainage of the pitot-static tubing.

You may obtain further information by examining the MCAI in the AD docket.

Relevant Service Information

Bombardier Inc., has issued Service Bulletin 601R-34-147, Revision B, dated March 8, 2011; and Service Bulletin 670BA-34-030, Revision B, dated March 23, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 1,041 products of U.S. registry. We also estimate that it would take about 2 work-hours per product to comply with the basic requirements of this proposed AD. The average labor rate is $85 per work-hour. Required parts would cost about $1,200 per product. Where the service information lists required parts costs that are covered under warranty, we have assumed that there will be no charge for these costs. As we do not control warranty coverage for affected parties, some parties may incur costs higher than estimated here. Based on these figures, we estimate the cost of the proposed AD on U.S. operators to be $1,426,170, or $1,370 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2011-0564; Directorate Identifier 2011-NM-021-AD.

Comments Due Date

(a) We must receive comments by July 25, 2011.

Affected ADs

(b) None.

Applicability

(c) This AD applies to all Bombardier, Inc. Model CL-600-2B19 (Regional Jet Series 100 & 440) airplanes, serial numbers 7003 thru 7067, 7069 thru 7990, 8000 thru 8107, and subsequent; Model CL-600-2C10 (Regional Jet Series 700, 701, & 702) airplanes; Model CL-600-2D15 (Regional Jet Series 705) airplanes; and Model CL-600-2D24 (Regional Jet Series 900) airplanes; certificated in any category.

Subject

(d) Air Transport Association (ATA) of America Code 34: Navigation.

Reason

(e) The mandatory continuing airworthiness information (MCAI) states:

There have been several in-service reports of airspeed mismatch between the pilot and co-pilot's airspeed indicators. It was discovered that during or after heavy rain, the pitot-static tubing may become partially or completely blocked by water, which fails to enter the drain bottles. Investigation revealed that drain bottles used in the primary pitot-static system include check valves, which impede the entry of water into the drain bottle. This condition, if not corrected, may result in erroneous airspeed and altitude indications.

* * * * *

Compliance

(f) You are responsible for having the actions required by this AD performed within the compliance times specified, unless the actions have already been done.

Actions

(g) Within 9 months after the effective date of this AD, do the actions specified in paragraphs (g)(1) and (g)(2) of this AD, as applicable.

(1) For Model CL-600-2B19 (Regional Jet Series 100 & 440) airplanes identified in Bombardier Service Bulletin 601R-34-147, Revision B, dated March 8, 2011: Replace water accumulator assemblies having part numbers (P/N) 50029-001, 9435015, 50030-001, and 9435014 installed on the pitot and static lines of the air data computer (ADC) with new or serviceable water accumulator assemblies having P/N 50036-001, in accordance with the Accomplishment Instructions of Bombardier Service Bulletin 601R-34-147, Revision B, dated March 8, 2011.

(2) For Model CL-600-2C10 (Regional Jet Series 700, 701, & 702), CL-600-2D15 (Regional Jet Series 705), and CL-600-2D24 (Regional Jet Series 900) airplanes: Replace water accumulator assemblies having P/N 50033-001 installed on the pitot and static lines of the ADC with new or serviceable water accumulator assemblies having P/N 50036-001, in accordance with the Accomplishment Instructions of Bombardier Service Bulletin 670BA-34-030, Revision B, dated March 23, 2010.

Parts Installation

(h) As of the effective date of this AD, no person may install a water accumulator assembly P/N 50029-001, 9435015, 50030-001, or 9435014 for Model CL-600-2B19 (Regional Jet Series 100 & 440) airplanes, or P/N 50033-001 for Model CL-600-2C10 (Regional Jet Series 700, 701, & 702), Model CL-600-2D15 (Regional Jet Series 705), and Model CL-600-2D24 (Regional Jet Series 900) airplanes on the pitot and static lines of the ADC, on any airplane.

Credit for Actions Accomplished in Accordance With Previous Service Information

(i) Replacing water accumulator assemblies in accordance with Bombardier Service Bulletin 670BA-34-147, dated April 1, 2009; or Revision A, dated November 3, 2009; before the effective date of this AD is acceptable for compliance with the corresponding replacement required by paragraph (g)(1) of this AD.

(j) Replacing water accumulator assemblies in accordance with Bombardier Service Bulletin 670BA-34-030, dated April 1, 2009; or Revision A, dated November 3, 2009; (for Model CL-600-2C10, CL-600-2D15, and CL-600-2D24 airplanes), before the effective date of this AD, is acceptable for compliance with the corresponding replacement required by paragraph (g)(2) of this AD.

FAA AD Differences

Note 1: This AD differs from the MCAI and/or service information as follows: No differences.

Other FAA AD Provisions

(k) The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, New York 11590; telephone: 516-228-7300; fax: 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI Transport Canada Civil Aviation Airworthiness Directive CF-2010-37, dated October 28, 2010; Bombardier Service Bulletin 601R-34-147, Revision B, dated March 8, 2011; and Bombardier Service Bulletin 670BA-34-030, Revision B, dated March 23, 2010; for related information.

Issued in Renton, Washington, on May 31, 2011.
Jeffrey E. Duven,
Acting Manager, Transport Airplane Directorate, Aircraft Certification Service.

[FR Doc. 2011-14348 Filed 6-8-11; 8:45 am]

BILLING CODE 4910-13-P